DEPARTMENT OF EDUCATION

[Docket ID ED-2013-OII-0146]

RIN 1894-AA04

Secretary's Proposed Supplemental Priorities and Definitions for Discretionary Grant Programs

AGENCY: Department of Education.

ACTION: Proposed priorities and definitions.

SUMMARY: To support a comprehensive education agenda, the Secretary proposes 15 priorities and related definitions for use in discretionary grant programs. These proposed priorities and definitions are intended to replace the current supplemental priorities for discretionary grant programs that were published in 2010. These priorities reflect the lessons learned from implementing discretionary grant programs, as well as our current policy objectives, and emerging needs in education.

DATES: We must receive your comments on or before July 24, 2014.

ADDRESSES: Submit your comments through the Federal eRulemaking Portal or via postal mail, commercial delivery, or hand delivery. We will not accept comments by fax or by email, or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed priorities and definitions, address them to Margo Anderson, U.S. Department of Education, 400 Maryland Avenue SW., Room 4W311, Washington, DC 20202-5930.

Privacy Note: The Department's policy is to make all comments received from members of the public available for public viewing in their entirety on the Federal eRulemaking Portal at www.regulations.gov. Therefore, commenters should be careful to include in their comments only information that they wish to make publicly available.

FOR FURTHER INFORMATION CONTACT: Margo Anderson, U.S. Department of Education, 400 Maryland Avenue SW., Room 4W311, Washington, DC 20202. Telephone: (202) 205-3010 or by email: margo.anderson@ed.gov.

If you use a telecommunications device for the deaf (TDD) or a text telephone (TTY), call the Federal Relay Service (FRS), toll free, at 1-800-877-8339.

SUPPLEMENTARY INFORMATION: Invitation to Comment: We invite you to submit comments regarding this notice. To ensure that your comments have maximum effect in developing the notice of final priorities and definitions, we urge you to identify clearly the specific proposed priority or definition that each comment addresses.

We invite you to assist us in complying with the specific requirements of Executive Orders 12866 and 13563 and their overall requirement of reducing regulatory burden that might result from these proposed priorities and definitions. Please let us know of any further ways we could reduce potential costs or increase potential benefits while preserving the effective and efficient administration of our programs.

During and after the comment period, you may inspect all public comments about this notice by accessing Regulations.gov. You may also inspect the comments in person in Room 4W335, 400 Maryland Avenue SW., Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Authority: 20 U.S.C. 1221e-3.

Proposed Priorities:

This notice contains 15 proposed priorities.

Background:

On December 15, 2010, the Department published in the Federal Register final supplemental priorities and definitions for discretionary grant programs (75 FR 78485), which were corrected and republished in the Federal Register on May 12, 2011 (76 FR 27637) (the 2010 Supplemental Priorities).

The Department proposes to repeal the 2010 Supplemental Priorities and definitions and replace them with a set of new and revised priorities and definitions for discretionary grant programs. The new priorities and definitions reflect the lessons learned from implementing discretionary grant programs using the 2010 Supplemental Priorities, our current policy objectives, and emerging needs in education. Note that we do not include priorities for building evidence of effectiveness, supporting projects for which there is moderate or strong evidence of effectiveness, or improving productivity, all of which were included in the 2010 Supplemental Priorities. These policy objectives are codified in the Education Department Grant Administrative Regulations (EDGAR), effective August 13, 2013 (see 78 FR 49338), and can be used in discretionary grant competitions through that mechanism.

To support our comprehensive education agenda, we are proposing priorities that span students' full academic and career trajectories. These priorities will support early learning and development programs that ensure children are ready to succeed in school; elementary and secondary schools and programs that keep all students on track to graduate from high school with the skills necessary to succeed in college and in their careers; and postsecondary programs, including adult educational programs, that provide individuals with the skills and knowledge they need to succeed in the workforce.

Our intent is to propose priorities that can be used widely across our discretionary grant programs, thereby aligning these programs with the Secretary's policy objectives, rather than proposing priorities specifically designed for individual programs.

This notice includes 15 proposed priorities, which are a combination of new priorities and amended versions of priorities from the 2010 Supplemental Priorities. The Department will choose which, if any, of the proposed priorities will be used for any particular discretionary grant competition; and such decisions will be made consistent with each program's current authorizing statute and regulations.

Proposed Priority 1—Improving Early Learning and Development Outcomes.

Background:

In his January 28, 2014, State of the Union address, the President repeated his request from the previous year to help states make high-quality preschool available to all children, noting that lack of access to high-quality early learning and development programs can cast a shadow over a child for the rest of his or her life. Further, research suggests that participation in high-quality early learning and development programs may lead to improved school readiness for children in the short term, as well as higher graduation rates and higher earnings in the long term.¹ Thus, through this proposed priority, the Department will support projects that are designed to improve early learning and developmental outcomes across the essential domains of school readiness (as defined in this notice) for children from birth through third grade. Further, we seek to expand on the early learning priority included in the 2010 Supplemental Priorities by also proposing to support projects designed to increase access to high-quality early learning and development programs, improve the quality and effectiveness of the early learning workforce, include preschool as part of elementary and secondary education programs and systems, and improve data-sharing, coordination, and alignment between early learning and development systems and elementary education systems.

¹ Yoshikawa, H., Weiland, C., Brooks-Gunn, J., Burchinal, M., Espinosa, L., Gormley, W., Ludwig, J.O., Magnuson, K.A., Phillips, D.A., & Zaslow, M.J. (2013). Investing in our future: The evidence base on preschool education. New York: Foundation for Child Development and Ann Arbor, MI: Society for Research in Child Development. Available at: http://fcd-us.org/sites/default/files/Evidence%20Base%20on%20Preschool%20Education%20FINAL.pdf.

Additionally, children from low-income families are under-represented in early learning and development programs across the country.² Through this proposed priority, the Department would support projects that increase children's access to high-quality early learning and development programs, particularly for children with high needs (as defined in this notice). High-quality early learning and development programs across the birth-through-third-grade continuum include the following elements, as appropriate: High staff qualifications, including attainment of a bachelor of arts degree for teachers; effective professional development for teachers and staff; low staff-child ratios; small class sizes; a full-day program; developmentally appropriate, evidence-based curricula and learning environments aligned with State early learning standards; employee salaries comparable to those of kindergarten through grade 12 (K-12) teaching staff; ongoing program evaluation to ensure continuous improvement; and on-site comprehensive services for children (e.g., health screenings, meals, nutrition services, family engagement strategies).

² U.S. Department of Education, National Center for Education Statistics (NCES) (August 2008). School Readiness Survey of the National Household Education Survey (NHES), 2007. Available at: http://nces.ed.gov/pubsearch/pubsinfo.asp?pubid=2008051.

In the Race to the Top-Early Learning Challenge program, the Department collaborates with the U.S. Department of Health and Human Services to emphasize that an early learning and development system is most effective for children when seamlessly coordinated with an elementary education system.³ This coordination may include, alone or in combination, aligning standards, comprehensive assessments, data systems, workforce systems, family engagement, and health promotion strategies. By aligning and coordinating early learning and development systems and elementary education systems, children are more likely to enter kindergarten ready to succeed and to sustain improved outcomes through the early elementary years. This proposed priority aims to support projects that will provide all children with a high-quality foundation that will prepare them for success in school and in life.

³ More information on the Race to the Top-Early Learning Challenge program is available at: http://www2.ed.gov/programs/racetothetop-earlylearningchallenge/index.html.

Proposed Priority 1—Improving Early Learning and Development Outcomes.

Projects that are designed to improve early learning and development outcomes across one or more of the essential domains of school readiness (as defined in this notice) for children from birth through third grade (or for any age group within this range) through a focus on one or more of the following:

(a) Increasing access to high-quality early learning and development programs and comprehensive services, particularly for children with high needs (as defined in this notice).

(b) Improving the quality and effectiveness of the early learning workforce so that early childhood educators have the knowledge, skills, and abilities necessary to improve young children's health, social-emotional, and cognitive outcomes.

(c) Improving the coordination and alignment between early learning and development systems and elementary education systems, in accordance with applicable privacy laws, to improve transitions for children from birth through third grade.

(d) Including preschool as part of elementary education programs and systems in order to expand opportunities for preschool students and teachers.

(e) Sustaining improved early learning and development outcomes throughout the early elementary school years.

Proposed Priority 2—Influencing the Development of Non-Cognitive Factors.

Background:

A promising body of research suggests that non-cognitive factors play an important role in students' academic, career, and life outcomes.⁴ Non-cognitive factors include a broad range of behaviors, strategies, and attitudes, such as academic behaviors (e.g., attendance, homework completion), academic mindsets (e.g., sense of belonging in the academic community, believing academic achievement improves with effort), perseverance (e.g., tenacity, self-discipline), social and emotional skills (e.g., cooperation, empathy, adaptability), and approaches toward learning strategies (e.g., executive functions, attention, goal-setting, curiosity, problem solving, self-regulating learning, study skills).⁵ With this proposed priority, the Department intends to support projects that develop and strengthen students' mastery of non-cognitive skills and behaviors so that they develop and attain the skills necessary for success in school, career, and life.

⁴ The University of Chicago Consortium of Chicago School Research (June 2012). Teaching Adolescents to Become Learners: The Role of Noncognitive Factors in Shaping School Performance. Available at: http://raikesfoundation.org/Documents/Teaching%20Adolescents%20to%20Become%20Learners%20(CCSR%20Literature%20Review%20June%202012).pdf.

⁵ Ibid.

This proposed priority is new and was not included in the 2010 Supplemental Priorities.

Proposed Priority 2—Influencing the Development of Non-Cognitive Factors.

Projects that are designed to improve students' mastery of non-cognitive skills and behaviors (e.g., academic behaviors, academic mindset, perseverance, self-regulation, social and emotional skills, and approaches toward learning strategies) and enhance student motivation and engagement in learning.

Proposed Priority 3—Promoting Personalized Learning.

Background:

Personalized learning (as defined in this notice) aims to differentiate content, tools, and materials for each learner so that he or she can meet college- and career-ready standards. Teacher and student interactions are strengthened when, through ongoing personalized assessments, a teacher has access to timely and targeted information about each student's particular needs and interests.

Personalized learning can be implemented through use of digital tools, adopting universal design principles, and aligning activities during non-school hours with students' unique needs. When well designed and appropriately implemented, personalized learning can narrow achievement gaps by using academic interventions that promote excellence. For example, a recent large-scale effectiveness study found that a technology-based, personalized, and blended-learning mathematics curriculum could effectively raise a high school student from the 50th to the 58th percentile.⁶ This sort of intervention has great potential to narrow achievement gaps between groups of students.

⁶ Pane, John F., et al. (2013). Effectiveness of Cognitive Tutor Algebra I at Scale. Rand Corporation. Available at: www.rand.org/pubs/external_publications/EP50410.html.

At its most effective, personalized learning can inspire students at all levels by effectively challenging those students who are furthest ahead on a specific topic, providing targeted assistance to those furthest behind, and engaging with the students in the middle. Personalized learning supports mastery-based differentiation, which also allows for regrouping students as appropriate.

This proposed priority aims to support projects that use personalized learning to prepare students to master the content and skills required for college- and career-readiness.

This proposed priority is new and was not included in the 2010 Supplemental Priorities.

Proposed Priority 3—Promoting Personalized Learning.

Projects that are designed to improve student academic outcomes and close academic opportunity or attainment gaps through one of the following:

(a) Implementing personalized learning (as defined in this notice) approaches that will ensure appropriate support and produce academic excellence for all students.

(b) Awarding credit or digital credentials (as defined in this notice) based on personalized learning or adaptive assessments of academic performance, cognitive growth, or behavioral improvements and aligned with college- and career-ready standards.

Proposed Priority 4—Improving Academic Outcomes for High-Need Students.

Background:

The Department is committed to pursuing equity at all stages of education, from birth through adulthood, and aims to ensure that all students are afforded the opportunity to succeed academically. However, persistent and significant gaps in achievement still exist between high-need students (as defined in this notice) ⁷ and their more advantaged peers. By supporting projects that improve student learning or encourage targeted subgroups of students to develop new skills, the Department is furthering its commitment to ensure that all students have the opportunity to succeed academically and to learn essential skills that support success in their careers and in life.

⁷ Note that the definition of “high-need student” is not limited to students of a certain grade or age. Accordingly, a high-need student could be a student in an early learning and development program, a student in elementary or secondary school, a postsecondary student, or an adult learner.

We included a similar priority in the 2010 Supplemental Priorities, which focused on accelerating learning and improving high school graduation rates for high-need students. Adding these groups to the proposed priority would allow for broader use across the Department's discretionary grant programs. In addition to including an expanded set of student subgroups, we are also revising this priority to support projects that are designed to improve academic outcomes or learning environments.

Proposed Priority 4—Improving Academic Outcomes for High-Need Students.

Projects that are designed to improve:

(a) Academic outcomes, or

(b) Learning environments, for one or more of the following groups of students:

(i) High-need students (as defined in this notice).

(ii) Students in rural local educational agencies (as defined in this notice).

(iii) Students with disabilities.

(iv) English learners.

(v) Students in lowest performing schools (as defined in this notice).

(vi) Students who are living in poverty and are served by schools with high concentrations of students living in poverty.

(vii) Disconnected youth, such as youth who are homeless, in foster care, have come into contact with the juvenile justice system, unemployed, or are not enrolled in an educational institution, or migrant youth.

(viii) Low-skilled adults (as defined in this notice).

Proposed Priority 5—Increasing Postsecondary Access, Affordability, and Completion.

Background:

Postsecondary education, including career and technical education, is increasingly necessary for individuals to compete in a global economy. Therefore, the Nation must boost completion rates for associate's and bachelor's degrees, as well as for industry-recognized credentials or certificates. The President has set a goal that, by 2020, the United States will have the highest proportion of college graduates in the world. This proposed priority aligns with the President's goal by supporting projects that prepare students, particularly high-need students (as defined in this notice), for college and careers; enroll more students in postsecondary education; and increase the number of those who complete programs of study with a degree or certificate. This proposed priority also supports career and technical training that provides students with the knowledge and skills to succeed in the workforce.

With this proposed priority, we also aim to support adult learners who must first strengthen their basic skills before they are able to succeed in postsecondary education. Basic skills may include reading, comprehension, and mathematic skills, as well as abstraction, system thinking, and experimentation. Basic skills may also include workforce-related skills, such as timeliness, responsibility, cooperation, and communication.

In addition to supporting projects that prepare students for college and careers, we must improve students' ability to afford postsecondary education, including career and technical education. The average net cost of a college education has risen for many undergraduates, particularly full-time students attending four-year public colleges and universities,⁸ widening the affordability gap. Giving students the information they need to select the institution most appropriate to their academic abilities, as well as their personal, professional, and financial goals, is essential. Further, making true college costs transparent and providing students more affordable college options will allow students to make informed choices from a meaningful range of college options. Another strategy for reducing the cost of education while also improving the quality of teaching and learning is through developing and implementing high-quality online, credit-bearing, and accessible learning opportunities. Such strategies may help achieve the President's goal of the United States having the highest proportion of college graduates in the world.

⁸ The College Board. Trends in College Pricing 2012. Available at: http://trends.collegeboard.org/college-pricing.

The 2010 Supplemental Priorities also included a priority on postsecondary success. We are revising the priority to focus specifically on access, affordability, and completion of postsecondary education, including career and technical education, to further support the President's goal.

Proposed Priority 5—Increasing Postsecondary Access, Affordability, and Completion.

Projects that are designed to address one or more of the following:

(a) Reducing the net cost, median student loan debt, and student loan default rate for high-need students (as defined in this notice) who enroll in college, other postsecondary education, or other career and technical education.

(b) Increasing the number and proportion of high-need students (as defined in this notice) who are academically prepared for, enroll in, or complete on time college, other postsecondary education, or other career and technical education.

(c) Increasing the number and proportion of high-need students (as defined in this notice) who, through college preparation, awareness, recruitment, application, selection, and other activities and strategies, enroll in or complete college, other postsecondary education, or other career and technical education.

(d) Increasing the number of individuals who return to the educational system to obtain a regular high school diploma or its recognized equivalent; enroll in and complete college, other postsecondary education, or career and technical training; or obtain basic and academic skills needed to succeed in college, other postsecondary education, other career and technical education, or the workforce.

(e) Increasing the number and proportion of high-need students (as defined in this notice), particularly low-skilled adults (as defined in this notice), adults with disabilities, and disconnected youth or youth who are at risk of becoming disconnected, who enroll in and complete postsecondary programs.

(f) Supporting the development and implementation of high-quality online or hybrid credit-bearing and accessible learning opportunities that reduce the total cost of higher education, accelerate time to degree completion, or allow students to progress at their own pace.

Proposed Priority 6—Improving Job-Driven Training and Employment Outcomes.

Background:

In his January 28, 2014, State of the Union address, the President introduced an effort to “train Americans with the skills employers need and match them to good jobs that need to be filled right now.” Research suggests that the most successful strategies for effective job-driven training are those that closely align training with local labor market needs. For example, one successful approach is encouraging local agencies to foster sector partnerships with local industry. Such employment and training strategies have increased both employment rates and earnings by obtaining accurate workforce needs assessments from local business and industry groups.⁹ In addition, programs that connect workers directly to the labor market through subsidized employment and registered apprenticeships have seen promising results.10 11

⁹ Maguire, Sheila et al. 2010. Findings from the Sectoral Employment Impact Study. New York: Public/Private Ventures.

¹⁰ Reed, Debbie et al. 2012. An Effectiveness Assessment and Cost-Benefit Analysis of Registered Apprenticeship in 10 States. Oakland, CA: Mathematica Policy Research.

¹¹ Gennetian, Lisa A., Cynthia Miller, and Jared Smith. 2005. Turning Welfare into Work Support: Six-Year Impacts on Parents and Children from the Minnesota Family Investment Program. New York: MDRC.

However, despite recent employment gains, far too many hard-working individuals have not been able to find a job or increase their earnings, and many businesses report difficulty hiring workers with the right skills for jobs they want to fill. The Department, in collaboration with other Federal agencies, is working to ensure its career, technical, and adult education and training programs and policies are aligned with the President's job-driven training goals and assist individuals to acquire the skills necessary to pursue in-demand jobs and careers and obtain employment. In addition to programs administered by the Department's Office of Career, Technical, and Adult Education, the Vocational Rehabilitation (VR) State Grants Program provides a wide range of services designed to assist individuals with disabilities to prepare for, obtain, and retain employment. The VR Grants Program is the largest Federal training program.

Through this proposed priority, the Department would support projects that align programs in the workforce and training system to equip the Nation's workers with skills matching the needs of employers looking to hire. It is imperative that employers identify the skills and credentials required for in-demand jobs; have multiple mechanisms for finding workers who have or can acquire those skills; and help develop training programs. Workers and job seekers must have access not only to education and training that meets their unique needs, skills, and abilities, but also assistance from personnel with the requisite education, skills, and experience to provide employment counseling that will enable them to acquire jobs that lead to meaningful careers. This proposed priority was not included in the 2010 Supplemental Priorities and is proposed to reflect the Department's current policy goals.

Proposed Priority 6—Improving Job-Driven Training and Employment Outcomes.

Projects that are designed to improve job-driven training and employment outcomes through a focus on one or more of the following:

(a) Increasing employer engagement (as defined in this notice).

(b) Providing work-based learning opportunities (e.g., Registered Apprenticeship, other apprenticeships, internships, externships, on-the-job training, co-operative learning, practica, and work experience) for low-skilled adults (as defined in this notice) or other high-need students (as defined in this notice).

(c) Integrating education and training into a career pathways program or system that offers connected education and training, related stackable credentials, and other support services that enable low-skilled adults (as defined in this notice) or other high-need students (as defined in this notice) to secure industry-relevant certification and obtain employment within an occupational area with the potential to advance to higher levels of future education and employment in that area.¹²

¹² Examples of such integration may include partnering or coordinating with other programs that provide job training and employment services, including American Job Centers and other programs authorized by the Workforce Investment Act.

(d) Providing labor market information, career information, advising, counseling, job search assistance, and other supports including performance-based or other income supports or stipends, transportation and child care assistance and information, or others as deemed appropriate.

(e) Improving the knowledge and skills of personnel and service providers that will enable such providers to better assist their customers to obtain the competencies and job skills required in the competitive labor market.

Proposed Priority 7—Promoting Science, Technology, Engineering, and Mathematics Education.

Background:

The demand for highly skilled workers in many fields is projected to outpace the number of qualified workers. To meet the needs of the labor market and spur an increase in technological innovation, creation, and study across the Nation, the Department proposes this priority to support the education and training of individuals in fields that draw heavily on science, technology, engineering, and mathematics (STEM) knowledge, such as health care, advanced manufacturing, clean energy, and information technology.

It is essential to the health of our economy to increase the number of students attracted to and prepared for careers in STEM and to increase the proportion of students who are from groups historically under-represented in these careers (e.g., minorities, individuals with disabilities, and women), and to retain all of these students in STEM fields.

The 2012 report from the President's Council of Advisors on Science and Technology (PCAST) estimated that about 40 percent of all students who start their postsecondary degree in a STEM field will finish their program. Moreover, even among those who attained a bachelor's degree in a STEM field, only about 56 percent of those working for pay one year after graduation worked in a STEM-related career.¹³ Therefore, we propose to revise the priority on STEM from the 2010 Supplemental Priorities to address access to, and persistence in, rigorous and engaging STEM coursework. To increase students' engagement and interest in STEM fields, it is imperative that students are provided opportunities to pursue rigorous STEM coursework and gain research experience prior to entering postsecondary study and the workforce.

¹³ The President's Council of Advisors on Science and Technology (PCAST) (February 2012). Engage to Excel: Producing One Million Additional College Graduates with Degrees in Science, Technology, Engineering and Mathematics. Available at: www.whitehouse.gov/sites/default/files/microsites/ostp/pcast-engage-to-excel-final_feb.pdf.

In addition, because of continued issues facing the STEM P-12 teaching profession, including teacher shortages and staffing difficulties, the President has challenged governors, philanthropists, scientists, engineers, educators, and the private sector to join a national campaign to find new ways to recruit, train, reward, and retain STEM teachers and to collectively prepare 100,000 STEM teachers over the next decade. Recruitment efforts that attract the best talent into STEM teaching will improve student learning and engagement in STEM subjects. Finally, ensuring STEM teachers have adequate knowledge of the subjects they are teaching and the ability to teach them will improve effectiveness and relevance of instruction in STEM subjects. This priority would also help to bolster local or regional partnerships that enhance students' access to real-world STEM experiences and teachers' access to high-quality STEM-related professional learning.

Proposed Priority 7—Promoting Science, Technology, Engineering, and Mathematics Education.

Projects that are designed to improve student achievement (as defined in this notice) or other related outcomes by addressing one or more of the following:

(a) Increasing the preparation of teachers or other educators in STEM subjects, including teachers of career and technical education, through activities that may include building content knowledge and pedagogical content knowledge, and increasing the number and quality of authentic STEM experiences (as defined in this notice).

(b) Providing students with increased access to rigorous and engaging STEM coursework and authentic STEM experiences (as defined in this notice).

(c) Identifying and implementing instructional strategies, systems, and structures that improve postsecondary learning and retention, resulting in completion of a degree in a STEM field.

(d) Increasing the number of individuals from groups historically under-represented in STEM, including minorities, individuals with disabilities, and women, who are provided with access to rigorous and engaging coursework in STEM or who are prepared for postsecondary study and careers in STEM.

(e) Supporting local or regional partnerships to give students access to real-world STEM experiences and to give educators access to high-quality STEM-related professional learning.

Proposed Priority 8—Implementing Internationally Benchmarked College- and Career-Ready Standards and Assessments.

Background:

Since 2009, 45 States and the District of Columbia have partnered in a State-led effort to develop common, internationally benchmarked college- and career-ready standards in English language arts and mathematics for elementary and secondary school students. Three other States are implementing their own college- and career-ready standards. In order to ensure effective implementation of these college- and career-ready standards and thereby further the goal of preparing students to compete in a global economy, it is essential to develop and implement teacher and principal preparation and professional development programs; student assessments or performance-based tools aligned with the standards, including adaptive assessments, simulations, and performance tasks; and other strategies that translate the standards and assessment data into classroom practices that meet the needs of all students, including English learners and students with disabilities.

The Department has emphasized the importance of high-quality formative, interim, and summative assessments to measure the extent to which students are meeting or exceeding college- and career-ready standards. States that set clear, high expectations for students must be able to assess and accurately measure student performance against those expectations. Projects that are designed to implement these standards and assessments will improve teaching and learning and can support greater accountability to students, families, and school or district staff by providing timely, relevant, and actionable information about student learning over time.

A version of this priority was included in the 2010 Supplemental Priorities under a slightly different title. In this notice, we are proposing minor changes to the previous priority.

Proposed Priority 8—Implementing Internationally Benchmarked College- and Career-Ready Standards and Assessments.

Projects that are designed to support the implementation of and transition to internationally benchmarked college- and career-ready standards and assessments, including projects in one or more of the following:

(a) Developing and implementing student assessments (e.g., formative assessments, interim assessments, summative assessments) or performance-based tools aligned with those standards and accessible to all students.

(b) Developing and implementing professional development or teacher preparation programs that are aligned with those standards.

(c) Developing and implementing strategies that translate the standards and information from assessments into classroom practices that meet the needs of all students.

Proposed Priority 9—Improving Teacher Effectiveness and Promoting Equal Access to Effective Teachers.

Background:

It is well established that teacher effectiveness contributes more to student academic outcomes than any other in-school measure; yet, there is dramatic variation in teacher effectiveness within and across schools, including significant inequity in students' access to effective teachers, particularly for low-income and minority students.

As such, it is essential to attract a high-performing and diverse pool of talented individuals into the teaching profession and to ensure that they have access to high-quality preparation programs that have high standards for successful completion. Equally important is supporting and retaining effective teachers through practices such as creating or enhancing opportunities for professional growth, reforming compensation and advancement systems, and creating conditions for successful teaching and learning. As part of their teacher development efforts, local educational agencies (LEAs or districts) should have in place strategies for ensuring teacher success, such as evaluation and support systems that consider multiple measures including student growth (as defined in this notice) and that result in actionable feedback, support, and incentives for improvement at every stage of a teacher's career.

In the 2010 Supplemental Priorities, we included a single priority that supported projects focused on both teachers and principals. This notice includes separate priorities for projects supporting teachers and principals. By creating separate priorities, discretionary grant programs can choose to focus on either teachers or principals and are provided the opportunity for more targeted support to each group.

This proposed priority focuses solely on strengthening teacher recruitment, selection, preparation, development, retention, support, recognition, assessment, and reach in ways that are consistent with the Department's policy goals for professionalizing teaching, improving outcomes for all students, and ensuring that low-income students and minority students have equal access to effective teachers. This priority would encourage grantees to exceed the requirements of Section 1112(c)(1)(L) of the Elementary and Secondary Education Act of 1965, as amended (ESEA) by focusing on effective teachers measured using a high-quality teacher evaluation and support system (as defined in this notice).

Proposed Priority 9—Improving Teacher Effectiveness and Promoting Equal Access to Effective Teachers.

Projects that are designed to address one or more of the following:

(a) Increasing the number and percentage of effective teachers in lowest performing schools (as defined in this notice) or schools with high concentrations of low-income and minority students, through such activities as:

(1) Improving the preparation, recruitment, selection, and early career development of teachers; implementing performance-based certification systems; reforming compensation and advancement systems; and reforming hiring timelines and systems.

(2) Improving the retention of effective teachers through such activities as creating or enhancing opportunities for teachers' professional growth; reforming compensation and advancement systems; and improving workplace conditions to create opportunities for successful teaching and learning; or

(b) Promoting equal access to effective teachers for low-income and minority students across and within schools and districts.

For the purposes of this priority, teacher effectiveness must be measured using a high-quality teacher evaluation and support system (as defined in this notice).

Proposed Priority 10—Improving the Effectiveness of Principals.¹⁴

¹⁴ For the purposes of this priority, the term “principal” may also refer to an assistant principal.

Background:

While there is no overall shortage of candidates who have the credentials States require for principals, these candidates are often ill-prepared to meet the demands of the principal position.¹⁵ Both novice and experienced principals often lack the necessary skills and support to respond to the increased pressures of their positions, such as changes to evaluation systems and the implementation of key organizational processes in their schools. The quality, not the quantity, of credentialed candidates for principal positions is a common criticism of principal preparation programs. Specifically, many district leaders and policy makers are critical of principal preparation programs that lack a rigorous screening and selection process for program candidates, courses that are aligned with standards of practice, and clinical experiences.¹⁶ Additionally, once credentialed candidates become principals, they are often not provided the necessary support and development opportunities that enable them to enhance their skills, particularly in shaping a strong professional community and collective responsibility for student learning by evaluating and providing feedback to teachers, analyzing student data, developing school leadership teams, and creating a positive school climate.

¹⁵ Roza, M., Celio, M.B., Harvey, J., & Wishon, S. (January 2003). A Matter of Definition: Is there Truly a Shortage of School Principals? A Report to the Wallace—Reader's Digest Fund.

¹⁶ Hale, E.L., & Moorman, H.N. (September 2003). Preparing School Principals: A National Perspective on Policy and Program Innovations. Institute for Educational Leadership.

This proposed priority underscores the value of principals and takes into account the influence principals have over teacher effectiveness and student achievement in their schools.¹⁷ Through this proposed priority, we seek to support projects that expand the pool of effective and highly effective principals, support ongoing professional development that is aligned with principals' needs, and build district capacity and systems that will provide principals the instructional focus, core leadership competencies, support, policies, and conditions that will positively affect the schools they lead.

¹⁷ Clifford, M., et al. Practical Guide to Designing Comprehensive Principal Evaluation Systems (April 2012). Available at: www.gtlcenter.org/products-resources/online-practical-guide-designing-comprehensive-principal-evaluation-systems.

As noted in the background discussion of proposed priority 9, we propose to separate priorities addressing teachers and principals, therefore allowing discretionary grant programs to focus on either teachers or principals in a manner that is specific to each group's unique needs.

Proposed Priority 10—Improving the Effectiveness of Principals.

Projects that are designed to increase the number and percentage of highly effective principals by addressing one or more of the following:

(a) Creating or expanding practices and strategies to recruit, select, prepare, and support talented individuals to lead and significantly improve instruction in the lowest performing schools (as defined in this notice) or schools with high concentrations of high-need students (as defined in this notice).

(b) Identifying, implementing, and supporting policies and school conditions that facilitate efforts by principals to turn around lowest performing schools (as defined in this notice).

(c) Creating or expanding principal preparation programs that include clinical experiences, induction and other supports for program participants, strategies for tracking the effect program graduates have on teaching and learning, and coursework that is aligned with pre-kindergarten through grade 12 college- and career-ready standards.

(d) Implementing professional development for current principals, especially in lowest performing schools (as defined in this notice), that is designed to improve teacher and student learning by supporting principals in their mastery of essential instructional and organizational leadership skills.

(e) Implementing practices or strategies that support districts in hiring, evaluating, and supporting principals to effectively lead schools.

For the purposes of this priority, principal effectiveness must be measured using a high-quality principal evaluation and support system (as defined in this notice).

Proposed Priority 11—Leveraging Technology to Support Instructional Practice and Professional Development.

Background:

Leveraging technology to support instructional practice and professional development is crucial to ensure Americans have access to a high-quality education and are prepared to be globally competitive. Schools, educators, students, and families all benefit when effective digital tools and materials are thoughtfully integrated into classrooms and communities.

Technology can accelerate or enhance the implementation of the other priorities proposed in this document by:

• Providing personalized data for early learning providers;

• Assessing and supporting students' mastery of non-cognitive skills and behaviors;

• Enabling the creation of personalized learning environments;

• Targeting and differentiating material specifically for high-need students (as defined in this notice);

• Increasing access to higher education and reducing instructional costs;

• Accessing open educational resources (as defined in this notice) aligned with internationally benchmarked college- and career-ready standards;

• Supporting teachers in sharing best practices and collaborating with experts to improve instructional approaches;

• Encouraging teacher observation and principal feedback;

• Engaging more effectively with diverse families and communities;

• Providing access to advanced coursework and other learning opportunities where otherwise not available; and

• Increasing the reach of highly effective teachers, particularly for students in rural and isolated areas.

While the use of digital tools was part of the 2010 Supplemental Priorities, we are revising this priority to include more specific strategies to promote technology integration and enhance student and educator learning. This proposed priority would explicitly support projects that help students and educators take full advantage of access to high-speed Internet, digital tools and materials, and open educational resources (as defined in this notice).

Proposed Priority 11—Leveraging Technology to Support Instructional Practice and Professional Development.

Projects that are designed to leverage technology through one or more of the following:

(a) Using high-need Internet access and devices that increase students' and educators' access to high-quality digital tools, materials, and assessments, particularly open educational resources (as defined in this notice).

(b) Developing and implementing high-quality accessible digital tools, materials, and assessments that are aligned to rigorous college- and career-ready standards.

(c) Developing and implementing high-quality, accessible online courses, learning communities, or simulations, including those for which educators could earn professional development credit or continuing education units through digital credentials (as defined in this notice) based on demonstrated mastery of competencies and performance-based outcomes, instead of traditional time-based metrics.

(d) Using data platforms that enable the development, visualization, and rapid analysis of data to produce evidence on teaching and learning, while also protecting privacy in accordance with applicable laws.

Proposed Priority 12—Promoting Diversity.

Background:

The 2010 Supplemental Priorities included a priority on diversity that allows the Department to give priority to projects that “are designed to promote student diversity, including racial and ethnic diversity, or avoid racial isolation.” In announcing this priority in 2010, we noted that LEAs and postsecondary institutions have found that “providing diverse learning environments . . . can provide substantial educational benefits.” To further this goal, in 2011 and again in 2013, the Department, in conjunction with the U.S. Department of Justice, issued guidance regarding the use of race and ethnicity to promote diversity and reduce racial isolation.¹⁸

¹⁸ Available at: http://www2.ed.gov/about/offices/list/ocr/letters/colleague-201111.html and www.ed.gov/news/press-releases/new-guidance-supports-voluntary-use-race-achieve-diversity-higher-education.

The Department continues to encourage schools, school districts, and postsecondary institutions to take lawful steps to increase student body diversity based on race and ethnicity, and, in the case of school districts, to avoid racial isolation. Any steps taken by school districts and postsecondary institutions to further these efforts must be done in accordance with applicable law, including United States Supreme Court precedent, and the guidance should be helpful in that respect.

Promoting diversity is a compelling educational goal for students from many backgrounds. Today's global economy demands that students graduate ready to interact with individuals from all walks of life and experience. LEAs and postsecondary institutions have a critical role in preparing students for success in an increasingly diverse workforce and society, and can help students reap substantial educational benefits by providing them with learning environments in which they can develop important skills, such as the ability to communicate and collaborate with peers of different backgrounds, perspectives, and abilities.

The 2010 priority highlighted racial and ethnic diversity, but did not preclude an applicant from receiving priority consideration for proposing projects promoting diversity in other ways, such as diversity based on socioeconomic status, another objective of Federal education programs. Consequently, the proposed diversity priority also covers projects that promote student body diversity based on other factors, including a student's socioeconomic status. Highlighting efforts to promote diversity based on socioeconomic status is also consistent with the 2011 and 2013 guidance documents, which explain that schools, school districts, and postsecondary institutions may elect to take account of students' socioeconomic status to achieve student body racial and ethnic diversity and, in the case of preschool, elementary, or secondary programs, to avoid racial isolation.

Proposed Priority 12—Promoting Diversity.

Projects that are designed to prepare students for success in an increasingly diverse workforce and society by increasing the diversity, including racial, ethnic, and socioeconomic diversity, of students enrolled in schools or postsecondary programs; or in the case of preschool, elementary, or secondary programs, decreasing the racial, ethnic, or socioeconomic isolation of students served by the project.

Proposed Priority 13—Improving School Climate, Behavioral Supports, and Correctional Education.

Background:

For all students to have the best chance for academic success, it is imperative they attend safe schools with nurturing climates that support active academic engagement through comprehensive supports for their physical, mental, and behavioral well-being. Too many students are negatively affected by violence, bullying, and exclusionary discipline practices, including suspension, expulsion, and unnecessary placement in alternative educational programs. The Department's Civil Rights Data Collection indicates that, for districts that reported expulsions, Hispanic and African American students represent 56 percent of the students expelled, but only 40 percent of the enrolled students in these districts. Additionally, students covered under the Individuals with Disabilities Education Act (IDEA) were twice as likely as students who were not covered under IDEA to be suspended from school at least once.¹⁹ Identifying and addressing the causes for disproportionate discipline and reducing school discipline practices that remove students from the learning environment will increase opportunities for student success.

¹⁹ The Civil Rights Data Collection: Issue Brief No. 1: School Discipline. (March 2014). Available at: http://ocrdata.ed.gov/Downloads/CRDC-School-Discipline-Snapshot.pdf.

Similarly, too many individuals who are or who have been incarcerated lack access to high-quality education or job training programs that will support their reintegration into the community. According to a recent study, inmates who participated in correctional education programs were, on average, 13 percentage points less likely to return to prison than inmates who did not participate in such programs.²⁰ Providing these individuals with the skills and knowledge essential for their futures will assist them in their transition to becoming productive citizens and decrease the likelihood of recidivism.

²⁰ Rand Corporation (2013). Evaluating the Effectiveness of Correctional Education: A Meta-Analysis of Programs that Provide Education to Incarcerated Adults. Available at: www.bja.gov/Publications/RAND_Correctional-Education-Meta-Analysis.pdf.

The 2010 Supplemental Priorities broadly addressed school climate. Through this proposed priority, we focus on specific challenges related to school climate, including disparities in and overuse of exclusionary discipline practices, and add a focus on social, emotional, and behavioral supports.²¹ In supporting projects that improve school climate and reduce school discipline issues, assess and address the root causes of disproportionate discipline, and improve the quality of education programs in juvenile justice and adult correctional facilities, the Department aims to support projects that support positive student behavior and students' success in college and in their careers.

²¹ Luiselli, J.K., Putnam, R.F., Handler, M.W., Feinberg, A.B. (2005). Whole-School Positive Behaviour Support: Effects on student discipline problems and academic performance. Educational Psychology, 25 (2-3), 183-198.

Proposed Priority 13—Improving School Climate, Behavioral Supports, and Correctional Education.

Projects that are designed to improve student outcomes through one or more of the following:

(a) Improving school climate through strategies that may include establishing tiered behavioral supports (as defined in this notice) or strengthening student social, emotional, and behavioral skills.

(b) Reducing or eliminating disparities in school disciplinary practices and the use of exclusionary discipline (such as suspensions, expulsions, and unnecessary placements in alternative education programs) for particular groups of students, including minority students and students with disabilities, by identifying and addressing the root causes of such disparities.

(c) Improving the quality of education programs in juvenile justice facilities (such as detention facilities and secure and non-secure placements) or adult correctional facilities, and linking the youth or adults to education or job training programs post-release.

Proposed Priority 14—Improving Parent, Family, and Community Engagement.

Background:

In order for families to be meaningfully engaged in their children's education and development, they must have a sense of shared responsibility with schools and communities for their children's academic outcomes. They must also have opportunities to support learning and school improvement and feel that their engagement is welcomed and supported by school and district staff.

In the 2010 Supplemental Priorities, we included a single priority that combined efforts to improve family and community engagement with efforts to improve school engagement, environment, and safety. This proposed priority would separate efforts to improve parent, family, and community engagement from those focused on improving school engagement, environment, and safety. Further, the 2010 priority addressed improving parent and family engagement broadly. Under this proposed priority, however, we would specify and expand on the types of projects we would like to support.

For example, this proposed priority would support the alignment of the Department's policies, practices, and programs concerning parent and family engagement (as defined in this notice) and community engagement (as defined in this notice). We view family engagement as a shared responsibility from cradle to career that takes place across multiple settings (i.e., home, school, and community). Further, this proposed priority focuses on building the capacity of parents, families, communities, and school and district staff to support academic achievement. This capacity-building focus can be integrated into many aspects of a school's or LEA's strategy to achieve learning goals, including the recruitment and training of effective teachers and leaders, the mechanisms used to evaluate and assess both teachers and students, and the tools that provide parents with access to information about students' academic progress and performance and information on how to use that data to support their children's education.

Proposed Priority 14—Improving Parent, Family, and Community Engagement.

Projects that are designed to improve students' academic outcomes through one or more of the following:

(a) Developing and implementing systemic initiatives (as defined in this notice) to improve parent and family engagement (as defined in this notice) by expanding and enhancing the skills, strategies, and knowledge (i.e., techniques needed to effectively communicate, advocate, support, and make informed decisions about the student's education) of parents and families.

(b) Providing professional development that enhances the skills and competencies of school leaders, principals, teachers, or other administrative and support staff to build meaningful relationships with students' parents or families.

(c) Implementing initiatives that improve community engagement (as defined in this notice) or the relationships between parents or families and school staff by cultivating sustained partnerships (as defined in this notice).

Proposed Priority 15—Supporting Military Families and Veterans.

Background:

There are more than 1.2 million school-aged children who have at least one parent that is a member of the uniformed services.²² Approximately 10 percent of those children have a parent deployed to a combat zone, and students of deployed parents can live in any community across our Nation and attend any school. Research suggests that military children experience stressors due to relocation that can negatively affect student achievement and participation in school activities. A 2010 military family lifestyle survey found that 34 percent of respondents are “less or not confident” that their children's school is responsive to the unique aspects of military family life.²³

²² Strengthening Our Military Families: Meeting America's Commitment (January 2011). Available at: www.defense.gov/home/features/2011/0111_initiative/Strengthening_our_Military_January_2011.pdf.

²³ Blue Star Families. 2010 Military Family Lifestyle Survey (May 2010). See http://bluestarfam.org/Policy/Surveys/Survey_2010.

Through a memorandum of understanding, the Department of Education and the Department of Defense acknowledge the unique educational needs and challenges faced by the children of military servicemen and women, including the need to reduce the negative consequences of frequent relocations and absences. Additionally, on April 27, 2012, the President signed Executive Order 13607, “Principles of Excellence for Educational Institutions Serving Service Members, Veterans, Spouses, and Other Family Members.” In implementing the Executive order, the U.S. Department of Veterans Affairs has established seven Principles of Excellence that encourage institutions of higher education (IHEs) to support veterans. Building on that initiative, the Department developed the “Eight Keys to Veterans' Success,” which highlight specific ways that IHEs can support veterans in their pursuit of higher education and employment.

This proposed priority aims to ensure the healthy development of military children, including children of active duty service members and veterans, and to improve educational experiences and career opportunities for students who are active duty or reserve component service members, spouses of active duty or reserve component service members, and veterans. Additionally, through this proposed priority, we would update the 2010 priority to encourage better alignment between projects we support and the President's Executive order.

Proposed Priority 15—Supporting Military Families and Veterans.

Projects that are designed to address the needs of military- or veteran-connected students (as defined in this notice).

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions:

Background:

We propose definitions to ensure a common understanding of terms used in the proposed priorities. These proposed definitions are intended to replace the definitions in the 2010 Supplemental Priorities.

Authentic STEM experiences means laboratory, research-based, or experiential learning opportunities in a STEM (science, technology, engineering, and mathematics) subject in informal or formal settings.

Children with high needs means children from birth through kindergarten entry who are from low-income families or otherwise in need of special assistance and support, including children who have disabilities or developmental delays; who are English learners; who reside on “Indian lands” as that term is defined by section 8013(6) of the Elementary and Secondary Education Act of 1965, as amended (ESEA); who are migrant, homeless, or in foster care; and other children as identified by the State.

Community engagement means the systematic inclusion of community organizations as partners with State educational agencies, local educational agencies, or other educational institutions, or their school staff. These organizations may include faith- and community-based organizations, institutions of higher education (including minority-serving institutions authorized under Title III of the Higher Education Act and historically black colleges and universities), business and industry, labor, State and local government entities, or Federal entities other than the Department.

Digital credentials means evidence of a teacher's or student's mastery of specific competencies or performance-based abilities, provided in digital rather than physical medium (e.g., through digital badges). These digital credentials may then be used to supplement or satisfy continuing education or professional development requirements.

Employer engagement means the active involvement of employers, employer associations, and labor organizations in identifying skills and competencies, designing programs, offering real workplace problem sets, facilitating access to leading-edge equipment and facilities, providing “return to work”-type professional development opportunities for faculty, and providing work-based learning and mentoring opportunities for participants.

Essential domains of school readiness means the domains of language and literacy development, cognition and general knowledge (including early mathematics and early scientific development), approaches toward learning, physical well-being and motor development (including adaptive skills), and social and emotional development.

High-minority school means a school as that term is defined by a local educational agency (LEA), which must define the term in a manner consistent with its State's Teacher Equity Plan, as required by section 1111(b)(8)(C) of the Elementary and Secondary Education Act of 1965, as amended (ESEA). The applicant must provide the definition(s) of “high-minority school” used in its application.

High-need students means students at risk of educational failure or otherwise in need of special assistance and support, such as students who are living in poverty, who attend high-minority schools (as defined in this notice), who are far below grade level, who have left school before receiving a regular high school diploma, who are at risk of not graduating with a diploma on time, who are homeless, who are in foster care, who have been incarcerated, who have disabilities, or who are English learners.

High-quality teacher evaluation and support system means a system that provides for continuous improvement of instruction; differentiates performance using at least three performance levels; uses multiple valid measures to determine performance levels, including data on student growth (as defined in this notice) as a significant factor and other measures of professional practice; evaluates teachers on a regular basis; provides clear and timely feedback that identifies needs and guides professional development; is developed with teacher and principal involvement; and is used to inform personnel decisions.

High-quality principal evaluation and support system means a system that provides for continuous improvement of instruction; differentiates performance using at least three performance levels; uses multiple valid measures to determine performance levels, including data on student growth (as defined in this notice) as a significant factor and other measures of professional practice; evaluates principals on a regular basis; provides clear and timely feedback that identifies needs and guides professional development; is developed with teacher and principal involvement; and is used to inform personnel decisions.

Low-skilled adult means an adult with low literacy and numeracy skills.

Lowest performing schools means—

For a State with an approved request for the Elementary and Secondary Education Act of 1965, as amended (ESEA) flexibility, priority schools (as defined in this notice) or Tier I and Tier II schools (as defined in this notice) identified under the School Improvement Grants program.

For any other State, Tier I and Tier II schools (as defined in this notice) identified under the School Improvement Grants program.

Military- or veteran-connected student means—

(a) A child participating in an early learning and development program, a student enrolled in preschool through grade 12, or a student enrolled in postsecondary education or career and technical training who has a parent or guardian who is a member of the uniformed services (as defined by 37 U.S.C. 101, in the Army, Navy, Air Force, Marine Corps, Coast Guard, National Guard, National Oceanic and Atmospheric Administration, or Public Health Service);

(b) A student who is a member of the uniformed services, a veteran of the uniformed services, or who is the spouse of a service member or veteran; or

(c) A child participating in an early learning and development program or a student enrolled in preschool through grade 12 who has a parent or guardian who is a veteran of the uniformed services (as defined by 37 U.S.C. 101).

Open educational resources (OER) means teaching, learning, and research resources that reside in the public domain or have been released under an intellectual property license that permits their free use and repurposing by others.

Parent and family engagement means the systematic inclusion of parents and families, working in partnership with State educational agencies (SEAs), State lead agencies (under Part C of the Individuals with Disabilities Education Act (IDEA) or the State's Race to the Top-Early Learning Challenge grant), local educational agencies (LEAs), or other educational institutions, or their staff, in their child's education, which may include strengthening the ability of (a) parents and families to support their child's education and (b) school staff to work with parents and families.

Persistently-lowest achieving schools means, as determined by the State—

(a)(1) Any Title I school in improvement, corrective action, or restructuring that—

(i) Is among the lowest achieving five percent of Title I schools in improvement, corrective action, or restructuring or the lowest achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest achieving five percent of secondary schools or the lowest achieving five secondary schools in the State that are eligible for, but do not receive, Title I funds, whichever number of schools is greater; or

(ii) Is a high school that has had a graduation rate as defined in 34 CFR 200.19(b) that is less than 60 percent over a number of years.

(b) To identify the lowest achieving schools, a State must take into account both—

(i) The academic achievement of the “all students” group in a school in terms of proficiency on the State's assessments under section 1111(b)(3) of the Elementary and Secondary Education Act of 1965, as amended (ESEA), in reading/language arts and mathematics combined; and

(ii) The school's lack of progress on those assessments over a number of years in the “all students” group.

Personalized learning means instruction that is aligned to rigorous college- and career-ready standards where the pace of learning and the instructional approach are tailored to the needs of individual learners. Learning objectives and content, as well as the pace, may all vary depending on a learner's needs. In addition, learning activities are aligned to specific interests of each learner. Data from a variety of sources (including formative assessments, student feedback, and progress in digital learning activities), along with teacher recommendations, are often used to personalize learning.

Priority schools means schools that, based on the most recent data available, have been identified as among the lowest performing schools in the State. The total number of priority schools in a State must be at least five percent of the Title I schools in the State. A priority school is—

(a) A school among the lowest five percent of Title I schools in the State based on the achievement of the “all students” group in terms of proficiency on the statewide assessments that are part of the SEA's differentiated recognition, accountability, and support system, combined, and has demonstrated a lack of progress on those assessments over a number of years in the “all students” group;

(b) A Title I-participating or Title I-eligible high school with a graduation rate less than 60 percent over a number of years; or

(c) A Tier I or Tier II school under the SIG program that is using SIG funds to implement a school intervention model.

Rural local educational agency means a local educational agency (LEA) that is eligible under the Small Rural School Achievement (SRSA) program or the Rural and Low-Income School (RLIS) program authorized under Title VI, Part B of the Elementary and Secondary Education Act of 1965, as amended (ESEA). Eligible applicants may determine whether a particular LEA is eligible for these programs by referring to information on the Department's Web site at www2.ed.gov/nclb/freedom/local/reap.html.

Student achievement means—

For grades and subjects in which assessments are required under section 1111(b)(3) of the Elementary and Secondary Act of 1965, as amended (ESEA): (1) A student's score on such assessments; and (2) other measures of student learning, such as those described in the subsequent paragraph, provided they are rigorous and comparable across schools within a local educational agency (LEA).

For grades and subjects in which assessments are not required under section 1111(b)(3) of the ESEA: (1) Alternative measures of student learning and performance, such as student results on pre-tests, end-of-course tests, and objective performance-based assessments; (2) student learning objectives; (3) student performance on English language proficiency assessments; and (4) other measures of student achievement that are rigorous and comparable across schools within an LEA.

Student growth means the change in student achievement (as defined in this notice) for an individual student between two or more points in time.

Sustained partnerships means relationships that have demonstrably adequate resources and other support to continue beyond the funding period and that consist of a local educational agency, one or more of its schools, and one or more of the following:

(1) Faith- or community-based organizations.

(2) Institutions of higher education, including community colleges, technical colleges, or technical institutions.

(3) Minority-serving institutions authorized under Title III of the Higher Education Act or historically black colleges or universities.

(4) Business, industry, or labor.

(5) Other Federal, State, or local government entities.

Systemic initiatives means policies, programs, or activities that include parent and family engagement as a core component and are designed to meet critical educational goals, such as school readiness, student achievement (as defined in this notice), and school turnaround.

Tier I schools means—

(a) A Tier I school is a Title I school in improvement, corrective action, or restructuring that is identified by the State educational agency (SEA) under paragraph (a)(1) of the definition of “persistently lowest-achieving schools.”

(b) At its option, an SEA may also identify as a Tier I school an elementary school that is eligible for Title I, Part A funds that—

(1)(i) Has not made adequate yearly progress for at least two consecutive years; or

(ii) Is in the State's lowest quintile of performance based on proficiency rates on the State's assessments under section 1111(b)(3) of the Elementary and Secondary Education Act of 1965, as amended (ESEA) in reading/language arts and mathematics combined; and

(2) Is no higher achieving than the highest-achieving school identified by the SEA under paragraph (a)(1)(i) of the definition of “persistently lowest-achieving schools.”

Tier II schools means—

(a) A Tier II school is a secondary school that is eligible for, but does not receive, Title I, Part A funds and is identified by the State educational agency (SEA) under paragraph (a)(2) of the definition of “persistently lowest-achieving schools.”

(b) At its option, an SEA may also identify as a Tier II school a secondary school that is eligible for Title I, Part A funds that—

(1)(i) Has not made adequate yearly progress for at least two consecutive years; or

(ii) Is in the State's lowest quintile of performance based on proficiency rates on the State's assessments under section 1111(b)(3) of the Elementary and Secondary Education Act of 1965, as amended (ESEA), in reading/language arts and mathematics combined; and

(2)(i) Is no higher achieving than the highest-achieving school identified by the SEA under paragraph (a)(2)(i) of the definition of “persistently lowest- achieving schools”; or

(ii) Is a high school that has had a graduation rate as defined in 34 CFR 200.19(b) that is less than 60 percent over a number of years.

Tiered behavioral supports means a continuum of increasingly intensive and evidence-based social, emotional, and behavioral supports, including a framework of universal strategies for students and school staff to promote positive behavior and data-based strategies for matching more intensive supports to individual student needs.

Final Priorities and Definitions:

We will announce the final priorities and definitions in a notice in the Federal Register. We will determine the final priorities and definitions after considering responses to this notice and other information available to the Department. This notice does not preclude us from proposing additional priorities or definitions, subject to meeting applicable rulemaking requirements.

Note: This notice does not solicit applications. In any year in which we choose to use one or more of these priorities and definitions, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive Order.

This proposed regulatory action is a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities and definitions only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs associated with this regulatory action are those resulting from regulatory requirements and those we have determined as necessary for administering the Department's programs and activities.

Discussion of Costs and Benefits:

The proposed priorities and definitions would not impose significant costs on entities that would receive assistance through the Department's discretionary grant programs. Additionally, the benefits of implementing the proposals contained in this notice outweigh any associated costs because they would result in the Department's discretionary grant programs selecting high-quality applications to implement activities that are most likely to have a significant national effect on educational reform and improvement.

Application submission and participation in a discretionary grant program are voluntary. The Secretary believes that the costs imposed on applicants by the proposed priorities and definitions would be limited to paperwork burden related to preparing an application for a discretionary grant program that is using one or more of the proposed priorities and definitions in its competition. Because the costs of carrying out activities would be paid for with program funds, the costs of implementation would not be a burden for any eligible applicants, including small entities.

Regulatory Flexibility Act Certification:

For these reasons as well, the Secretary certifies that these proposed regulations would not have a significant economic impact on a substantial number of small entities.

Intergovernmental Review: Some of the programs affected by these proposed priorities and definitions are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 19, 2014.
Arne Duncan,
Secretary of Education.

[FR Doc. 2014-14671 Filed 6-23-14; 8:45 am]

BILLING CODE 4000-01-P